DEPARTMENT OF COMMERCE

Foreign-Trade Zones Board

[B-38-2023]

Foreign-Trade Zone (FTZ) 163; Authorization of Production Activity; Puerto Rico Steel Products Corporation; (Construction and Fencing Products); Coto Laurel, Puerto Rico

On June 8, 2023, Puerto Rico Steel Products Corporation submitted a notification of proposed production activity to the FTZ Board for its facility within Subzone 163L, in Coto Laurel, Puerto Rico.

The notification was processed in accordance with the regulations of the FTZ Board (15 CFR part 400), including notice in the Federal Register inviting public comment (88 FR 38811, June 14, 2023). On October 6, 2023, the applicant was notified of the FTZ Board's decision that no further review of the activity is warranted at this time. The production activity described in the notification was authorized, subject to the FTZ Act and the FTZ Board's regulations, including section 400.14.

Dated: October 6, 2023.
Elizabeth Whiteman,
Executive Secretary.

[FR Doc. 2023-22572 Filed 10-11-23; 8:45 am]

BILLING CODE 3510-DS-P